DEPARTMENT OF TRANSPORTATION

National Highway Traffic Safety Administration

[Docket No. NHTSA-2013-0045]

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below will be forwarded to the Office of Management and Budget (OMB) for review and comment. The ICR describes the nature of the information collection and its expected burden. The Federal Register Notice with a 60-day comment period was published on April 18, 2013 (78 FR 23330). No comments were received.

Comments: Comments should be directed to the Office of Information and Regulatory Affairs, Office of Management and Budget, 725 17th Street NW., Washington, DC 20503, Attention NHTSA Desk Officer.

Type of Request: Extension of a currently approved collection.

Form Number: This collection of information uses no standard forms.

DATES: Comments must be submitted on or before August 23, 2013.

FOR FURTHER INFORMATION CONTACT: John Piazza, National Highway Traffic Safety Administration, Office of the Chief Counsel (NCC-111), (202) 366-9511, 1200 New Jersey Avenue SE., Washington, DC 20590.

SUPPLEMENTARY INFORMATION:

National Highway Traffic Safety Administration

Title: Criminal Penalty Safe Harbor Provision.

OMB Control Number: 2127-0609.

Frequency: We believe that there will be very few criminal prosecutions under 49 U.S.C. 30170, given the lack of prosecutions under the statute to date. Accordingly, it is not likely to be a substantial motivating force for a submission of a corrected report in response to an agency request for information. See Summary of the Collection of Information below. Based on our experience to date, we estimate that no more than one (1) person per year would be subject to this collection of information, and we do not anticipate receiving more than one report a year from any particular person.

Affected Public: This collection of information would apply to any person who seeks a “safe harbor” from potential criminal liability under 49 U.S.C. 30170. Thus, the collection of information could apply to the manufacturers, any officers or employees thereof, and other persons who respond or have a duty to respond to an information provision requirement pursuant to 49 U.S.C. 30166 or a regulation, requirement, request or order issued thereunder.

Abstract: NHTSA has published a final rule related to “reasonable time” and sufficient manner of “correction,” as they apply to the safe harbor from criminal penalties, as required by Section 5 of the Transportation Recall Enhancement, Accountability, and Documentation (TREAD) Act (Pub. L. 106-414), which was enacted on November 1, 2000. 65 FR 38380 (July 24, 2001).

Estimated Annual Burden: Using the above estimate of one (1) affected person a year, with an estimated two (2) hours of preparation to collect and provide the information, at an assumed rate of $26.70 an hour, the annual, estimated cost of collecting and preparing the information necessary for one complete “safe harbor” correction is $53.40. Adding in a postage cost of $0.46 (one report at a cost of 46 cents to mail each one), we estimate that it will cost $53.86 a year for persons to prepare and submit the information necessary to satisfy the safe harbor provision of 49 U.S.C. 30170.

Since nothing in this rule would require those persons who submit reports pursuant to this rule to keep copies of any records or reports submitted to us, the cost imposed to keep records would be zero hours and zero costs.

Number of Respondents: We estimate that there will be no more than one per year.

Summary of the Collection of Information: Any person seeking protection from criminal liability under 49 U.S.C. 30170 related to an improper report or failure to report pursuant to 49 U.S.C. 30166, or a regulation, requirement, request or order issued thereunder, is and will be required to report the following information to NHTSA: (1) Each previous improper item of information or document and each failure to report that was required under 49 U.S.C. 30166, or a regulation, requirement, request or order issued thereunder, (2) the specific predicate under which each improper or omitted report should have been provided, and (3) the complete and correct reports, including all information that was improperly submitted or that should have been submitted and all relevant documents that were not previously submitted to NHTSA or, if the person cannot provide this, then a full detailed description of that information or of the content of those documents and the reason why the individual cannot provide them to NHTSA.

ADDRESSES: Send comments, within 30 days, to the Office of Information and Regulatory Affairs, Office of Management and Budget, 725 17th Street NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC under authority delegated in 49 CFR 1.95.

O. Kevin Vincent,
Chief Counsel.

[FR Doc. 2013-17679 Filed 7-23-13; 8:45 am]

BILLING CODE 4910-59-P